FEDERAL MARITIME COMMISSION

Notice of Sunshine Act Meeting

AGENCY HOLDING THE MEETING: Federal Maritime Commission.

TIME AND DATE: April 18, 2012—10 a.m.

PLACE: 800 North Capitol Street NW., First Floor Hearing Room, Washington, DC.

STATUS: A part of the meeting will be in Open Session and the remainder of the meeting will be in Closed Session.

MATTERS TO BE CONSIDERED:

Open Session

1. Staff Briefing on Economic and Trade Conditions.

2. FMC Docket No. 11-22, Non-Vessel-Operating Common Carrier Negotiated Rate Arrangements; Tariff Filing Exemption—NOTICE OF INQUIRY—Staff Briefing and Status Report, and Commission Discussion regarding NVOCC Negotiated Rate Arrangements (NRAs) and NVOCC Service Arrangements (NSAs) (46 CFR part 531).

3. Staff Briefing on Administrative Conference of the United States, Recommendation No. 2011-6, International Regulatory Cooperation.

Closed Session

1. September 2, 2011 Commission Order Amending Special Reporting Requirements for the Transpacific Stabilization Agreement and the Westbound Transpacific Stabilization Agreement.

CONTACT PERSON FOR MORE INFORMATION: Karen V. Gregory, Secretary, (202) 523-5725.

Rachel E. Dickon,
Assistant Secretary.

[FR Doc. 2012-9098 Filed 4-11-12; 4:15 pm]

BILLING CODE 6730-01-P